NATIONAL CREDIT UNION ADMINISTRATION

Sunshine Act; Notice of Agency Meeting

Time and Date: 10 a.m., Thursday, September 24, 2009.

Place: Board Room, 7th Floor, Room 7047, 1775 Duke Street, Alexandria, VA 22314-3428.

Status: Open.

Matters to be Considered: 1. National Credit Union Share Insurance Fund Premium and Stabilization Fund Assessment.

2. Central Liquidity Fund Policies.

3. Insurance Fund Report.

Recess: 11 a.m.

Time and Date: 11:15 a.m., Thursday, September 24, 2009.

Place: Board Room, 7th Floor, Room 7047, 1775 Duke Street, Alexandria, VA 22314-3428.

Status: Closed.

Matters to be Considered: 1. Consideration of Supervisory Activities (4). Closed pursuant to exemptions (8), (9)(A)(ii) and 9(B).

2. Personnel. Closed pursuant to exemptions (2) and (6).

FOR FURTHER INFORMATION CONTACT: Mary Rupp, Secretary of the Board, Telephone: 703-518-6304

Mary Rupp,
Board Secretary.

[FR Doc. E9-22899 Filed 9-18-09; 4:15 pm]

BILLING CODE 7535-01-P